DEPARTMENT OF COMMERCE

National Oceanic and Atmospheric Administration

50 CFR Part 679

[Docket No. 000211039-0039-01; I.D. 021400D]

Fisheries of the Exclusive Economic Zone Off Alaska; Closures of Specified Groundfish Fisheries in the Gulf of Alaska

AGENCY: National Marine Fisheries Service (NMFS), National Oceanic and Atmospheric Administration (NOAA), Commerce.

ACTION: Closure.

SUMMARY: NMFS is closing specified groundfish fisheries in the Gulf of Alaska (GOA). This action is necessary to prevent exceeding the directed fishing allowances specified for the 2000 total allowable catch (TAC) amounts for the GOA.

DATES: Effective February 15, 2000 until midnight, Alaska local time, December 31, 2000.

FOR FURTHER INFORMATION CONTACT: Mary Furuness, 907-586-7228.

SUPPLEMENTARY INFORMATION: NMFS manages the groundfish fishery in the GOA exclusive economic zone according to the Fishery Management Plan for Groundfish of the Gulf of Alaska (FMP) prepared by the North Pacific Fishery Management Council under authority of the Magnuson-Stevens Fishery Conservation and Management Act. Regulations governing fishing by U.S. vessels in accordance with the FMP appear at subpart H of 50 CFR part 600 and 50 CFR part 679.

In accordance with § 679.20(d)(1)(i), if the Administrator, Alaska Region, NMFS (Regional Administrator), determines that the amount of a target species or “other species” category apportioned to a fishery or, with respect to pollock and Pacific cod, to an inshore or offshore component allocation, will be reached, the Regional Administrator may establish a directed fishing allowance for that species or species group. If the Regional Administrator establishes a directed fishing allowance, and that allowance is or will be reached before the end of the fishing year, NMFS will prohibit directed fishing for that species or species group in the specified GOA Regulatory Area or district (§ 697.20(d)(1)(iii)).

NMFS published final 2000 harvest specifications for these groundfish fisheries in the Federal Register. The Regional Administrator has determined that the following TAC amounts are necessary as incidental catch to support other anticipated groundfish fisheries for the 2000 fishing year:

Thornyhead rockfish: entire GOA | 2,360 mt
Atka mackerel: entire GOA | 600 mt
Sablefish: trawl apportionment, entire GOA | 1,802 mt
“Other rockfish”: |
Western Regulatory area | 20 mt
Central Regulatory area | 740 mt
Shortraker/rougheye rockfish: entire GOA | 1,730 mt
Pollock: offshore component, entire GOA | 0 mt
Pacific cod: offshore component Eastern Regulatory Area | 321 mt
Deep-water flatfish: Western Regulatory Area | 280 mt

Consequently, in accordance with § 679.20(d)(1)(i), the Regional Administrator establishes the directed fishing allowances for the above species or species groups as zero.

Therefore, in accordance with § 679.20(d)(1)(iii) NMFS is prohibiting directed fishing for these species in the specified areas. These closures will be in effect from February 15, 2000 until 12 midnight, Alaska local time, December 31, 2000.

Under authority of the interim 2000 GOA specifications (65 FR 65, January 3, 2000), pollock fishing opened on January 1, 2000, for amounts specified in that notice. NMFS has since closed Statistical Area 610 to directed fishing for pollock effective 1200 hrs, A.l.t., January 31, 2000 (65 FR 5285, February 3, 2000), Statistical Area 620 outside the Shelikof Strait conservation area to directed fishing for pollock effective 1200 hrs, A.l.t., January 27, 2000 (65 FR 5283, February 3, 2000), Statistical Area 630 outside the Shelikof Strait conservation area to directed fishing for pollock effective 1200 hrs, A.l.t., January 25, 2000 (65 FR 4891, February 2, 2000), and directed fishing for Pacific cod by vessels catching Pacific cod for processing by the offshore component in the Western Regulatory Area, effective 1200 hrs, February 7, 2000 (65 FR 6561, February 10, 2000). The closures for Statistical Areas 610, 620 and 630 will remain in effect until 1200 hrs, A.l.t., March 15, 2000.

These closures supersede the closures announced in the interim 2000 GOA harvest specifications (65 FR 65, January 3, 2000). While these closures are in effect, the maximum retainable bycatch amounts at § 679.20(e) and (f) apply at any time during a fishing trip. These closures to directed fishing are in addition to closures and prohibitions found in regulations at 50 CFR part 679. Refer to § 679.2 for definitions of areas. The definitions of GOA deep-water flatfish and “Other rockfish” species categories are provided in the Federal Register publication of the Final 2000 Harvest Specifications.

NMFS may implement other closures during the 2000 fishing year, as necessary for effective conservation and management.

Classification

This action is required by § 679.20 and is exempt from review under E.O. 12866.

This action responds to the TAC limitations and other restrictions on the fisheries established in the Final 2000 Harvest Specifications for Groundfish for the GOA. It must be implemented immediately to prevent overharvesting the 2000 TACs for several groundfish species in the GOA. A delay in the effective date is impracticable and contrary to the public interest. The fleet is currently harvesting groundfish, and further delay would only result in overharvest. NMFS finds for good cause that the implementation of this action should not be delayed for 30 days. Accordingly, under 5 U.S.C. 553(d), a delay in the effective date is hereby waived.

Authority: 16 U.S.C. 1801 et seq.

Dated: February 14, 2000.
Bruce Morehead,
Acting Director, Office of Sustainable Fisheries, National Marine Fisheries Service.

[FR Doc. 00-3913 Filed 2-15-00; 2:51 pm]

BILLING CODE 3510-22-F